DEPARTMENT OF ENERGY

Federal Energy Regulatory Commission

Combined Notice of Filings

Take notice that the Commission has received the following Natural Gas Pipeline Rate and Refund Report filings:

Filings Instituting Proceedings

Docket Numbers: RP15-1022-000.

Applicants: Alliance Pipeline L.P.

Description: Cost and Revenue Study Filing of Alliance Pipeline L.P.

Filed Date: 9/14/15.

Accession Number: 20150914-5269.

Comments Due: 5 p.m. ET 12/1/15.

Docket Numbers: RP16-205-000.

Applicants: Equitrans, L.P.

Description: Motion for Extension of Time to Comply with the Requirements of Order No. 587-W of Equitrans, L.P.

Filed Date: 11/18/15.

Accession Number: 20151118-5151.

Comments Due: 5 p.m. ET 11/30/15.

Docket Numbers: RP16-206-000.

Applicants: Kern River Gas Transmission Company.

Description: § 4(d) Rate Filing: 2016 Leap Year Rates to be effective 1/1/2016.

Filed Date: 11/19/15.

Accession Number: 20151119-5069.

Comments Due: 5 p.m. ET 12/1/15.

Docket Numbers: RP16-207-000.

Applicants: Transcontinental Gas Pipe Line Company.

Description: Compliance filing IDLS Revenue Sharing Report 2015.

Filed Date: 11/19/15.

Accession Number: 20151119-5071.

Comments Due: 5 p.m. ET 12/1/15.

Docket Numbers: RP16-208-000.

Applicants: El Paso Natural Gas Company, L.L.C.

Description: § 4(d) Rate Filing: Negotiated Rate Agreement Update (Conoco) to be effective 11/20/2015.

Filed Date: 11/19/15.

Accession Number: 20151119-5176.

Comments Due: 5 p.m. ET 12/1/15.

Docket Numbers: RP16-209-000.

Applicants: Gas Transmission Northwest LLC.

Description: Compliance filing GTN RP15-904 Rate Case Settlement Compliance to be effective 1/1/2016.

Filed Date: 11/20/15.

Accession Number: 20151120-5054.

Comments Due: 5 p.m. ET 12/2/15.

Docket Numbers: RP16-210-000.

Applicants: Northwest Pipeline LLC.

Description: § 4(d) Rate Filing: NWP 2016 Leap Year Rates Filing to be effective 1/1/2016.

Filed Date: 11/20/15.

Accession Number: 20151120-5082.

Comments Due: 5 p.m. ET 12/2/15.

Docket Numbers: RP16-211-000.

Applicants: Texas Eastern Transmission, LP.

Description: § 4(d) Rate Filing: Non-conforming and Negotiated Rate—Chesapeake 911268 to be effective 11/20/2015.

Filed Date: 11/20/15.

Accession Number: 20151120-5121.

Comments Due: 5 p.m. ET 12/2/15.

Docket Numbers: RP16-212-000.

Applicants: Paiute Pipeline Company.

Description: § 4(d) Rate Filing: Associated Imbalance Trading—CP14-509 to be effective 12/21/2015.

Filed Date: 11/20/15.

Accession Number: 20151120-5237.

Comments Due: 5 p.m. ET 12/2/15.

Docket Numbers: RP16-213-000.

Applicants: Tennessee Gas Pipeline Company, L.L.C.

Description: § 4(d) Rate Filing: Volume No. 2—Neg Rate Agmts with Noble Americas and Antero to be effective 12/1/2015.

Filed Date: 11/20/15.

Accession Number: 20151120-5241.

Comments Due: 5 p.m. ET 12/2/15.

Docket Numbers: RP16-214-000.

Applicants: Range Resources-Appalachia LLC, Range Resources—Pine Mountain, Inc., EnerVest Energy Institutional Fund XIV.

Description: Joint Application for Waivers and Request for Expedited Action and Shortened Comment Period of Range Resources—Appalachia LLC, et al.

Filed Date: 11/20/15.

Accession Number: 20151120-5316.

Comments Due: 5 p.m. ET 11/27/15.

Docket Numbers: RP16-215-000.

Applicants: Algonquin Gas Transmission, LLC.

Description: § 4(d) Rate Filing: Negotiated Rates—Plymouth Rock 790846 to be effective 12/1/2015.

Filed Date: 11/23/15.

Accession Number: 20151123-5112.

Comments Due: 5 p.m. ET 12/7/15.

Docket Numbers: RP16-216-000.

Applicants: National Fuel Gas Supply Corporation.

Description: Compliance filing TSCA for 2016—Informational Filing.

Filed Date: 11/23/15.

Accession Number: 20151123-5131.

Comments Due: 5 p.m. ET 12/7/15.

Docket Numbers: RP16-217-000.

Applicants: Algonquin Gas Transmission, LLC.

Description: § 4(d) Rate Filing: Negotiated Rates—BP Energy 790853 to be effective 12/1/2015.

Filed Date: 11/23/15.

Accession Number: 20151123-5134.

Comments Due: 5 p.m. ET 12/7/15.

Docket Numbers: RP16-218-000.

Applicants: Mojave Pipeline Company, L.L.C.

Description: § 4(d) Rate Filing: Annual Fuel Filing effective January 1, 2016 to be effective 1/1/2016.

Filed Date: 11/23/15.

Accession Number: 20151123-5139.

Comments Due: 5 p.m. ET 12/7/15.

Docket Numbers: RP16-219-000.

Applicants: Southern Star Central Gas Pipeline, Inc.

Description: Compliance filing Annual Operational Flow Order Report 2015.

Filed Date: 11/23/15.

Accession Number: 20151123-5154.

Comments Due: 5 p.m. ET 12/7/15.

Docket Numbers: RP16-220-000.

Applicants: Southern Natural Gas Company, L.L.C.

Description: § 4(d) Rate Filing: SCRM Filing to be effective 1/1/2016.

Filed Date: 11/23/15.

Accession Number: 20151123-5157.

Comments Due: 5 p.m. ET 12/7/15.

Docket Numbers: RP16-221-000.

Applicants: Ruby Pipeline, L.L.C.

Description: § 4(d) Rate Filing: FL&U to be effective 1/1/16 to be effective 1/1/2016.

Filed Date: 11/23/15.

Accession Number: 20151123-5158.

Comments Due: 5 p.m. ET 12/7/15.

Docket Numbers: RP16-222-000.

Applicants: Cameron Interstate Pipeline, LLC.

Description: § 4(d) Rate Filing: Cameron Interstate Pipeline Annual Adjustment of Fuel Retainage Percentage to be effective 1/1/2016.

Filed Date: 11/23/15.

Accession Number: 20151123-5183.

Comments Due: 5 p.m. ET 12/7/15.

Docket Numbers: RP16-223-000.

Applicants: Kinder Morgan Louisiana Pipeline LLC.

Description: § 4(d) Rate Filing: Remove Terminated Agreement to be effective 11/23/2015.

Filed Date: 11/23/15.

Accession Number: 20151123-5196.

Comments Due: 5 p.m. ET 12/7/15.

Docket Numbers: RP16-224-000.

Applicants: Tennessee Gas Pipeline Company, L.L.C.

Description: Compliance filing Cashout Report Plan 2014-2015.

Filed Date: 11/23/15.

Accession Number: 20151123-5208.

Comments Due: 5 p.m. ET 12/7/15

Docket Numbers: RP16-225-000.

Applicants: Sierrita Gas Pipeline LLC.

Description: Operational Purchases and Sales Report of Sierrita Gas Pipeline LLC.

Filed Date: 11/23/15.

Accession Number: 20151123-5243.

Comments Due: 5 p.m. ET 12/7/15.

Docket Numbers: RP16-226-000.

Applicants: Texas Eastern Transmission, LP.

Description: § 4(d) Rate Filing: Negotiated Rates eff 12-22-2015 for UGI Central Penn Gas to be effective 12/22/2015.

Filed Date: 11/23/15.

Accession Number: 20151123-5245.

Comments Due: 5 p.m. ET 12/7/15.

Docket Numbers: RP16-227-000.

Applicants: Gas Transmission Northwest LLC.

Description: Annual Fuel Charge Adjustment of Gas Transmission Northwest LLC.

Filed Date: 11/23/15.

Accession Number: 20151123-5273.

Comments Due: 5 p.m. ET 12/7/15.

Docket Numbers: RP16-228-000.

Applicants: Rockies Express Pipeline LLC.

Description: § 4(d) Rate Filing: Neg Rate Amend MFN Ultra 2015-11-20 to be effective 12/1/2015.

Filed Date: 11/23/15.

Accession Number: 20151123-5301.

Comments Due: 5 p.m. ET 12/7/15.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 24, 2015.
Nathaniel J. Davis, Sr.
Deputy Secretary.

[FR Doc. 2015-30707 Filed 12-4-15; 8:45 am]

BILLING CODE 6717-01-P